DEPARTMENT OF ENERGY

Federal Energy Regulatory Commission

[Project No. 12636-002; Project No. 12153-000]

Mohawk Hydro Corporation; Notice of Pre-Filing Activities in Another Docket

Take notice that some pre-filing activities related to the preparation of the license application for the Middle Mohawk Hydroelectric Project (P-12636) were undertaken in docket number P-12153. Documents pertaining to that proceeding are available in the Commission's eLibrary under docket number P-12153.

For further information, please contact Monir Chowdhury at (202) 502-6736.

Dated: March 18, 2015.
Kimberly D. Bose,
Secretary.

[FR Doc. 2015-06739 Filed 3-24-15; 8:45 am]

BILLING CODE 6717-01-P